DEPARTMENT OF ENERGY

Federal Energy Regulatory Commission

[Docket No. RP04-155-003]

Northern Natural Gas Company; Notice of Motion To Place Suspended Rates and Tariff Sheets Into Effect

October 13, 2004.

Take notice that on October 8, 2004, Northern Natural Gas Company, tendered for a motion to place the suspended tariff sheets listed in Appendix A to the filing, into effect on November 1, 2004.

Northern states that it has also deleted references to the Gas Research Institute (GRI) surcharge in its Gas Tariff as well as incorporated a Field Area Segmentation filing.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on October 20, 2004.

Magalie R. Salas,
Secretary.

[FR Doc. E4-2767 Filed 10-20-04; 8:45 am]

BILLING CODE 6717-01-P